INTERNATIONAL TRADE COMMISSION

[Inv. No. 337-TA-1350]

Certain Integrated Circuits, Components Thereof, and Products Containing the Same; Institution of Investigation

AGENCY: U.S. International Trade Commission.

ACTION: Notice.

SUMMARY: Notice is hereby given that a complaint was filed with the U.S. International Trade Commission on December 12, 2022, under section 337 of the Tariff Act of 1930, as amended, on behalf of Realtek Semiconductor Corporation of Taiwan. An amended complaint was filed on December 23, 2022. A letter supplementing the complaint was filed on January 17, 2023. The amended complaint, as supplemented, alleges violations of section 337 based upon the importation into the United States, the sale for importation, and the sale within the United States after importation of certain integrated circuits, components thereof, and products containing the same by reason of the infringement of certain claims of U.S. Patent No. 7,936,245 (“the '245 patent”); U.S. Patent No. 8,006,218 (“the '218 patent”); and U.S. Patent No. 9,590,582 (“the '582 patent”). The amended complaint, as supplemented, further alleges that an industry in the United States exists as required by the applicable Federal Statute. The complainant requests that the Commission institute an investigation and, after the investigation, issue a limited exclusion order and a cease and desist order.

ADDRESSES: The amended complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Jessica Mullan, Office of the Secretary, Dockets Services Division, U.S. International Trade Commission, (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2021).

Scope of Investigation: Having considered the amended complaint, the U.S. International Trade Commission, on January 18, 2023, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1, 2, and 8 of the '245 patent; claims 12-18 of the '218 patent; and claims 1-4 and 9 of the '582 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “central processing units (`CPUs'), graphics processing units (`GPUs'), server processors, embedded processors, I/O processors, systems-on-chip (`SoCs'), Field Programmable Gate Arrays, chipsets, Accelerated Processing Units, and components of each”;

(3) For the purpose of the investigation so instituted, the following are hereby named as parties upon which this notice of investigation shall be served:

(a) The complainant is: Realtek Semiconductor Corporation, No. 2, Innovation Road II, Hsinchu 300, Taiwan.

(b) The respondent is the following entity alleged to be in violation of section 337, and is the party upon which the amended complaint is to be served: Advanced Micro Devices, Inc., 2485 Augustine Drive, Santa Clara, CA 95054.

(4) For the investigation so instituted, the Chief Administrative Law Judge, U.S. International Trade Commission, shall designate the presiding Administrative Law Judge.

The Office of Unfair Import Investigations will not participate as a party in this investigation.

Responses to the amended complaint and the notice of investigation must be submitted by the named respondent in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: January 19, 2023.
Katherine Hiner,
Acting Secretary to the Commission.

[FR Doc. 2023-01326 Filed 1-23-23; 8:45 am]

BILLING CODE 7020-02-P